DEPARTMENT OF TRANSPORTATION

Federal Aviation Administration

14 CFR Part 73

[Docket No. FAA-2017-0144; Airspace Docket No. 17-ASW-2]

Proposed Establishment of Restricted Areas R-5602A and R-5602B; Fort Sill, OK

AGENCY: Federal Aviation Administration (FAA), DOT.

ACTION: Notice of proposed rulemaking (NPRM).

SUMMARY: This action proposes to establish two restricted areas, R-5602A and R-5602B, over a portion of the Fort Sill, OK, R-5601 restricted area complex in support of an emerging kinetic and directed energy weapons training requirement for the United States (U.S.) Army Fires Center of Excellence at Fort Sill. This additional airspace would allow for the segregation of hazardous activities from non-participating traffic.

DATES: Comments must be received on or before August 17, 2017.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2017-0144 and Airspace Docket No. 17-ASW-2, at the beginning of your comments. You may also submit comments through the Internet at www.regulations.gov. You may review the public docket containing the proposal, any comments received, and any final disposition in person in the Dockets Office between 9:00 a.m. and 5:00 p.m., Monday through Friday, except Federal holidays. The Docket Office (telephone 1-800-647-5527), is on the ground floor of the building at the above address.

Comments on environmental and land use aspects should be directed to: U.S. Army Garrison, Directorate of Public Works, Attn: IMSI-PWE (Sarah Sminkey), Environmental Quality Division, Fort Sill, OK 73503-5100; email: sarah.e.sminkey.civ@mail.mil; phone: (580) 442-2849.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish the restricted area airspace at Fort Sill, OK, to enhance aviation safety and accommodate essential U.S. Army hazardous above-the-horizon laser operations conducting counter unmanned aircraft systems (UAS) activities.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2017-0144 and Airspace Docket No. 17-ASW-2) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2017-0144 and Airspace Docket No. 17-ASW-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov. Recently published rulemaking documents can also be accessed through the FAA's Web page at http://www.faa.gov/air_traffic/publications/airspace_amendments/.

You may review the public docket containing the proposal, any comments received and any final disposition in person at the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX 76177.

Background

As the U.S. Army's Center of Excellence for Fires, Fort Sill has submitted a proposal to the FAA to establish two restricted areas overlying a portion of the Fort Sill R-5601 restricted area complex, and extending slightly eastward, to support an emerging kinetic and directed energy weapons training mission. The designated altitudes of the proposed restricted areas would extend upward from 40,000 feet mean sea level (MSL) to 60,000 feet MSL.

Fort Sill has long been the U.S. Army's schoolhouse for traditional field artillery training and it has now been tasked to field advanced technology weapons, and train soldiers in their use for both field artillery and air defense artillery missions. Railguns, hypervelocity projectiles, and lasers being introduced at Fort Sill represent a technological leap in capability, and require additional high altitude segregated airspace to contain the hazardous activities and protect non-participating air traffic from those hazardous activities.

The primary activities associated with the proposed R-5602A would include high trajectory surface-to-surface kinetic weapons employment using existing firing points and impact areas, with occasional laser fires passing through R-5601 complex restricted area airspace and the proposed R-5602A before entering the proposed R-5602B restricted area. The proposed R-5602B would be established solely to contain directed energy laser fires intended to destroy adversary UAS. Target UAS would only operate in the lower R-5601 restricted areas since the proposed R-5602A and R-5602B restricted areas would not be approved for aviation activity. For directed energy laser fires that extend beyond the ceiling of the proposed R-5602B restricted area, Fort Sill would follow existing interagency procedures to ensure protection of both manned aircraft and space assets operating above 60,000 feet MSL.

To leverage advanced technology weapons capabilities for training soldiers in emerging field artillery and air defense artillery missions, Fort Sill requires additional restricted area airspace. Through extensive safety analysis, the U.S. Army has determined that the volume of restricted area airspace proposed in R-5602A and R-5602B is the minimum amount required to contain the planned hazardous activities and protect non-participant air traffic in the area.

Minimal aeronautical impact is anticipated since the proposed restricted areas would be located above a portion of the existing R-5601 complex, which extends from the surface to 40,000 feet MSL, and the designated altitudes of the proposed restricted areas would extend upward from 40,000 feet MSL to 60,000 feet MSL.

The Proposal

The FAA is proposing an amendment to 14 CFR part 73 to establish two new restricted areas, R-5602A and R-5602B, overlying a portion of the R-5601 complex located at Fort Sill, OK. The new restricted areas would support the U.S. Army fielding advanced technology weapons and training for emerging field artillery and air defense artillery missions. To effectively segregate non-participant air traffic from the hazardous activities associated with the use of the advanced technology weapons at Fort Sill, the proposed R-5602A and R-5602B restricted areas would extend upward from 40,000 feet MSL to 60,000 feet MSL and be activated by a Notice to Airman (NOTAM).

The proposed lateral boundaries for R-5602A would overlie and extend upward over the ceilings of the R-5601A, R-5601B, and a portion of R-5601F restricted areas. The proposed lateral boundaries for R-5602B would extend a shelf of restricted area airspace approximately 8 nautical miles (NM) east beyond the R-5601A and R-5601F eastern boundaries. Collectively, the proposed R-5602A and R-5602B restricted areas and the existing R-5601 complex would fully contain planned hazardous activities within restricted area airspace from the surface to 60,000 feet MSL. Existing interagency procedures would be followed to further segregate hazardous activities from manned aircraft and space assets operating above 60,000 feet MSL.

The proposed designated altitudes for the proposed R-5602A and R-5602B restricted areas would extend upward from 40,000 feet MSL to 60,000 feet MSL. The altitudes are defined relative to MSL to highlight that the proposed area would be used for other than aircraft operations. From an air traffic perspective, establishing the proposed restricted areas for other than aircraft operations reduces the radar separation requirements for circumnavigating the proposed restricted areas and contributes to minimizing impacts to aviation.

The proposed time of designation for the proposed R-5602A and R-5602B restricted areas would be, “By NOTAM 0830-1630, Monday-Friday; other times by NOTAM.” The expected usage for the proposed R-5602A would be approximately 8 hours per day on most weekdays, consistent with in-garrison syllabus training. However, the expected usage for the proposed R-5602B would be much lower to approximately 25 days per year. Due to the heavy dependence on favorable weather and unpredictability of seasonal weather patterns, NOTAM activation is considered an operational necessity for both proposed restricted areas.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.56 Oklahoma (Amended)

2. § 73.56 is amended as follows:

* * * * *

R-5602A Fort Sill, OK [New]

Boundaries. Beginning at lat. 34°46′45″ N., long. 98°17′01″ W.; to lat. 34°38′15″ N., long. 98°17′01″ W.; to lat. 34°38′15″ N., long. 98°37′57″ W.; to lat. 34°40′54″ N., long. 98°37′56″ W.; to lat. 34°42′07″ N., long. 98°37′20″ W.; to lat. 34°43′21″ N., long. 98°36′02″ W.; to lat. 34°43′30″ N., long. 98°35′40″ W.; to lat. 34°45′03″ N., long. 98°29′46″ W.; to lat. 34°46′15″ N., long. 98°25′01″ W.; to lat. 34°47′00″ N., long. 98°17′46″ W.; to the point of beginning.

Designated altitudes. 40,000 feet MSL to 60,000 feet MSL.

Time of designation. By NOTAM 0830-1630, Monday-Friday; other times by NOTAM.

Controlling agency. FAA, Fort Worth ARTCC.

Using agency. U.S. Army, Commanding General, U.S. Army Fires Center of Excellence (USAFCOE) and Fort Sill, Fort Sill, OK.

R-5602B Fort Sill, OK [New]

Boundaries. Beginning at lat. 34°49′30″ N., long. 98°08′43″ W.; to lat. 34°36′36″ N., long. 98°08′43″ W.; to lat. 34°38′15″ N., long. 98°17′01″ W.; to lat. 34°46′06″ N., long. 98°17′01″ W.; to the point of beginning.

Designated altitudes. 40,000 feet MSL to 60,000 feet MSL.

Time of designation. By NOTAM 0830-1630, Monday-Friday; other times by NOTAM.

Controlling agency. FAA, Fort Worth ARTCC.

Using agency. U.S. Army, Commanding General, U.S. Army Fires Center of Excellence (USAFCOE) and Fort Sill, Fort Sill, OK.

Issued in Washington, DC, on June 26, 2017.
Rodger A. Dean Jr.,
Manager, Airspace Policy Group.

[FR Doc. 2017-13990 Filed 6-30-17; 8:45 am]

BILLING CODE 4910-13-P